NUCLEAR REGULATORY COMMISSION

[Dockets 50-0416 and 72-0050; NRC-2009-0230]

Notice of Issuance of Environmental Assessment and Finding of No Significant Impact; Entergy Operations, Inc., Grand Gulf Nuclear Station, Independent Spent Fuel Storage Installation

AGENCY: Nuclear Regulatory Commission.

ACTION: Issuance of Environmental Assessment and Finding of No Significant Impact.

FOR FURTHER INFORMATION CONTACT: John Goshen, Project Manager, Division of Spent Fuel Storage and Transportation, Office of Nuclear Material Safety and Safeguards, U.S. Nuclear Regulatory Commission, Washington, DC 20555. Telephone: (301) 492-3325; fax number: (301) 492-3342; e-mail: john.goshen@nrc.gov.

SUPPLEMENTARY INFORMATION:

I. Environmental Assessment (EA)

Identification of Proposed Action: By letter dated December 22, 2008, as supplemented March 20, 2009, Entergy Operations, Inc. (Entergy) submitted to the United States Nuclear Regulatory Commission (NRC) a one-time exemption request from the requirements of 10 CFR 72.212(a)(2) and (b)(7) for four HI-STORM 100 System Model 68 Multi-Purpose Canisters (MPCs) at the Grand Gulf Nuclear Station (GGNS) Independent Spent Fuel Storage Facility (ISFSI) due to non-compliance with two of the terms and conditions of Certificate of Compliance (CoC)-1014, Amendment No. 2 at the time of cask loading. Section 72.212(a)(2) limits the general license issued by 10 CFR 72.210 to the storage of spent fuel in casks approved under the provisions of Part 72. Section 72.212(b)(7) requires that the general licensee to comply with the terms and conditions of the applicable CoC.

In December 2006, due to a database error, Entergy loaded four MPCs with individual fuel assemblies (IFAs) that exceeded the maximum burnup limits and maximum decay heat limits specified in the CoC-1014, Amendment No. 2, Appendix B, Section 2.1. Additionally, the supplemental cooling required by the CoC-1014, Amendment No. 2, Appendix A, Section 3.1.4 for the four MPCs had not been implemented. Entergy identified the non-compliances on June 18, 2008, in an event report to the NRC, along with a preliminary evaluation that determined that fuel cladding temperatures had not exceeded thermal limits during any time during the affected period. The proposed action before the NRC is whether to grant this exemption request pursuant to 10 CFR 72.7.

Need for the Proposed Action: Entergy requested the exemption from 10 CFR 72.212(a)(2) and 10 CFR 72.212(b)(7) to allow continued, non-compliant storage of the IFAs in the affected MPCs.

Environmental Impacts of the Proposed Action: The proposed action under consideration would allow Entergy a one-time exemption from 10 CFR 72.212(a)(2) and 10 CFR 72.212(b)(7) for the four affected MPCs at GGNS ISFSI. Entergy's evaluation and a thermal analysis by Holtec, the fabricator of the cask system, determined that the fuel cladding was intact, and therefore, the integrity of the affected MPCs and the contained IFAs was not compromised. The heat loads in the affected casks have decreased to within the limits set by CoC-1014.

The NRC staff concludes that the requested exemption has low safety significance and that, in accordance with 10 CFR 72.7, approval of the requested exemption will not endanger life or property or the common defense and security and is otherwise in the public interest. The NRC staff further concludes that approving the exemption request would have no significant impact on the environment.

Alternative to the Proposed Action: The no-action alternative to the proposed action would be to deny approval of the exemption. Denial of the exemption request would require Entergy to unload the affected MPCs. Unloading the MPCs would expose Entergy's personnel to additional radiation, generate contaminated waste, and run the risks of a possible fuel handling accident and a possible heavy load handling accident.

Given the risks associated with unloading the casks and that there are no significant radiological or non-radiological environmental impacts arising from the continued storage of the IFAs in the affected MPCs, the NRC concludes that the preferred alternative is to grant the exemption request.

II. Finding of No Significant Impact

The environmental impacts of the proposed action have been reviewed in accordance with the requirements set forth in 10 CFR Part 51. Based upon the foregoing Environmental Assessment, the Commission finds that the proposed action of granting an exemption from 10 CFR 72.212(a)(2) and 10 CFR 72.212(b)(7) will not significantly impact the quality of the human environment. Accordingly, the Commission has determined not to prepare an environmental impact statement for the proposed exemption.

III. Further Information

The document related to this action is available electronically at the NRC's Electronic Reading Room at http://www.nrc.gov/reading-rm/adams.html. A copy of the exemption request, dated December 22, 2008, can be found on this site using the Agencywide Document Access and Management System (ADAMS), accession number ML091470104. If you do not have access to ADAMS or if there are problems in accessing the document located in ADAMS, contact the NRC Public Document Room (PDR) Reference staff at 1-800-397-4209, 301-415-4737 or by e-mail to pdr@nrc.gov.

This document may also be viewed electronically on the public computers located at the NRC's Public Document Room (PDR), O1 F21, One White Flint North, 11555 Rockville Pike, Rockville, MD 20852. The PDR reproduction contractor will copy documents for a fee.

Dated at Rockville, MD, this 3rd day of June 2009.
For the Nuclear Regulatory Commission.
Eric Benner,
Chief, Licensing Branch, Division of Spent Fuel Storage and Transportation, Office of Nuclear Material Safety and Safeguards.

[FR Doc. E9-13711 Filed 6-11-09; 8:45 am]

BILLING CODE 7590-01-P